DEPARTMENT OF THE INTERIOR

Bureau of Land Management

[NM-210-1430-ES; NMNM 118070]

Correction to Notice of Realty Action—Recreation and Public Purposes (R&PP) Act Classification, New Mexico

AGENCY: Bureau of Land Management, Interior.

ACTION: Correction.

SUMMARY: In Federal Register [73 FR 50342] on Tuesday, August 26, 2008, make the following correction. Under the SUPPLEMENTARY INFORMATION heading, the legal description should read:

New Mexico Principal Meridian

T. 29 N., R. 12 W.,

Sec. 18, SW of lot 9.

Containing 10 acres, more or less.

FOR FURTHER INFORMATION CONTACT: Mary Jo Albin, Realty Specialist, at the Bureau of Land Management, Farmington Field Office, at (505) 599-6332.

Joel E. Farrell,
Assistant Field Manager for Resources, Farmington.

[FR Doc. E8-24253 Filed 10-10-08; 8:45 am]

BILLING CODE 4310-VB-P